DEPARTMENT OF COMMERCE

International Trade Administration

Environmental Technologies Trade Advisory Committee; Meeting

AGENCY: International Trade Administration, U.S. Department of Commerce.

ACTION: Notice of an open meeting of a Federal Advisory Committee.

SUMMARY: This notice sets forth the schedule and proposed topics for a meeting of the Environmental Technologies Trade Advisory Committee (ETTAC).

DATES: The meeting is scheduled for Tuesday, July 26, 2022 from 10:00 a.m. to 1:00 p.m. Eastern Daylight Time (EDT). The deadline for members of the public to register to participate, including requests to make comments during the meeting and for auxiliary aids, or to submit written comments for dissemination prior to the meeting, is 5:00 p.m. EDT on Tuesday, July 19, 2022.

ADDRESSES: The meeting will take place in the Research Library at the U.S. Department of Commerce, 1401 Constitution Avenue NW, Washington, DC 20230. Requests to register to participate in-person or virtually (including to speak or for auxiliary aids) and any written comments should be submitted via email to Ms. Victoria Yue, Office of Energy & Environmental Industries, International Trade Administration, at Victoria.yue@trade.gov.

FOR FURTHER INFORMATION CONTACT: Ms. Victoria Yue, Office of Energy & Environmental Industries, International Trade Administration (Phone: 202-482-3492; email: Victoria.yue@trade.gov).

SUPPLEMENTARY INFORMATION: The meeting will take place on Tuesday, July 26, 2022 from 10:00 a.m. to 1:00 p.m. EDT. The general meeting is open to the public and time will be permitted for public comment. Members of the public seeking to attend the meeting are required to register in advance. Those interested in attending must provide notification by Tuesday, July 19, 2022, at 5:00 p.m. EDT, via the contact information provided above. This meeting is physically accessible to people with disabilities. Requests for sign language interpretation or other auxiliary aids should be directed to Victoria Yue at Victoria.Yue@trade.gov or (202) 482-3492 no less than one week prior to the meeting. Requests received after this date will be accepted, but it may not be possible to accommodate them.

Written comments concerning ETTAC affairs are welcome any time before or after the meeting. To be considered during the meeting, written comments must be received by Tuesday, July 19, 2022, at 5:00 p.m. EDT to ensure transmission to the members before the meeting. Minutes will be available within 90 days of this meeting.

Topics to be considered: At this final meeting of the current ETTAC charter (2020-2022), the ETTAC will present its recommendations to senior officials from the U.S. Department of Commerce, then interagency representatives of the Trade Promotion Coordinating Committee's Environmental Trade Working Group (TPCC ETWG) will respond to the recommendations that the ETTAC presented. The meeting will be co-chaired by senior officials from the International Trade Administration and the U.S. Environmental Protection Agency. The ETTAC's recommendation letters can be found at www.trade.gov/ettac. The recommendations were developed by the ETTAC's three subcommittees: Trade Policy and Export Promotion, Climate Change Mitigation and Resilience Technologies; and Waste Management and Circular Economy. An agenda will be made available one week prior to the meeting upon request to Victoria Yue.

Background: The ETTAC is mandated by Section 2313(c) of the Export Enhancement Act of 1988, as amended, 15 U.S.C. 4728(c), to advise the Environmental Trade Working Group of the Trade Promotion Coordinating Committee, through the Secretary of Commerce, on the development and administration of programs to expand U.S. exports of environmental technologies, goods, services, and products. The ETTAC was most recently re-chartered through August 15, 2022.

Dated: June 28, 2022.
Man K. Cho,
Deputy Director, Office of Energy and Environmental Industries.

[FR Doc. 2022-14133 Filed 6-30-22; 8:45 am]

BILLING CODE 3510-DR-P